DEPARTMENT OF HEALTH AND HUMAN SERVICES

Health Resources and Services Administration

Recruitment of Clinicians To Become Commissioned Officers; Recruitment of Sites for Assignment of Commissioned Officers; Correction

AGENCY: Health Resources and Services Administration, HHS.

ACTION: General notice; correction.

SUMMARY: The Health Resources and Services Administration published a document in the Federal Register of February 26, 2004, containing an incorrect deadline for clinicians to submit applications.

In FR Doc. 04-4204, in the Federal Register of February 26, 2004, on page 8982, in the third column, lines 8 and 9 under the section “Application Requests, Dates and Addresses” are corrected to read: “or delivered no later than September 30, 2004 to: Division of Commissioned.”

Dated: March 17, 2004.
Tina M. Cheatham,
Director, Division of Policy Review and Coordination.

[FR Doc. 04-6633 Filed 3-24-04; 8:45 am]

BILLING CODE 4165-15-P